ENVIRONMENTAL PROTECTION AGENCY

40 CFR Part 300

[EPA-HQ-SFUND-1989-0011; FRL-9996-25-Region 7]

National Oil and Hazardous Substances Pollution Contingency Plan; National Priorities List: Deletion of the Electro-Coatings, Inc. Superfund Site

AGENCY: Environmental Protection Agency (EPA).

ACTION: Proposed rule; notice of intent.

SUMMARY: The Environmental Protection Agency (EPA) Region 7 is issuing a Notice of Intent to Delete the Electro-Coatings, Inc. Superfund Site (Site) located at 911 Shaver, Cedar Rapids, Iowa, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Iowa, through the Iowa Department of Natural Resources (IDNR), have determined that all required and appropriate response actions at the Electro-Coatings under CERCLA have been completed. However, this deletion does not preclude future actions under Superfund.

DATES: Comments must be received by August 12, 2019.

ADDRESSES: Submit your comments, identified by Docket ID no. EPA-HQ-SFUND-1989-0011, by one of the following methods:

• https://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

• Email: safadi.amer@epa.gov.

• Mail: U.S. Environmental Protection Agency Region 7, 11201 Renner Boulevard, Lenexa, KS 66219. Attention: Amer Safadi, SEMD Divison.

• Hand delivery: U.S. Environmental Protection Agency, Region 7, 11201 Renner Boulevard, Lenexa, KS 66219. Such deliveries are only accepted between 8:00 a.m. and 4:00 p.m. Monday through Friday, except federal holidays. Special arrangements should be made for deliveries of boxed information.

Instructions: Direct your comments to Docket ID no. EPA-HQ-SFUND-1989-0011. EPA's policy is that all comments received will be included in the public docket without change and may be made available online at https://www.regulations.gov, including any personal information provided, unless the comment includes information claimed to be Confidential Business Information (CBI) or other information whose disclosure is restricted by statute. Do not submit information that you consider to be CBI or otherwise protected through https://www.regulations.gov or email. The https://www.regulations.gov website is an “anonymous access” system, which means EPA will not know your identity or contact information unless you provide it in the body of your comment. If you send an email comment directly to the EPA without going through https://www.regulations.gov, your email address will be automatically captured and included as part of the comment that is placed in the public docket and made available on the internet. If you submit an electronic comment, EPA recommends that you include your name and other contact information in the body of your comment and with any disk or CD-ROM you submit. If the EPA cannot read your comment due to technical difficulties and cannot contact you for clarification, EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available either electronically in https://www.regulations.gov or in hard copy at:

The EPA Region 7 Records Center, 11201 Renner Boulevard, Lenexa, KS 66219 between 8 a.m. to 4 p.m. Monday through Friday, excluding Federal holidays; and the Cedar Rapids Downtown Public Library, 450 Fifth Avenue SE, Cedar Rapids, Iowa 52401. Telephone number (319) 261-7323. Open Monday through Thursday 9 a.m. to 8 p.m.; Friday through Saturday 9 a.m. to 5 p.m.; and Sunday 1 p.m. to 5 p.m.

FOR FURTHER INFORMATION CONTACT: Amer Safadi, Remedial Project Manager, U.S. Environmental Protection Agency, Region 7, 11201 Renner Boulevard, Lenexa, Kansas 66219, email: safadi.amer@epa.gov and phone number: (913) 551-7825.

SUPPLEMENTARY INFORMATION:

Table of Contents

I. Introduction

II. NPL Deletion Criteria

III. Deletion Procedures

IV. Basis for Intended Site Deletion

I. Introduction

The EPA Region 7 announces its intent to delete the Electro-Coatings, Inc. Superfund Site from the NPL and requests public comment on this proposed action. The NPL constitutes Appendix B of 40 CFR part 300 which is the National Oil and Hazardous Substances Pollution Contingency Plan (NCP), which the EPA promulgated pursuant to section 105 of the Comprehensive Environmental Response, Compensation and Liability Act (CERCLA) of 1980, as amended. The EPA maintains the NPL as those sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

The EPA will accept comments on the proposal to delete this site for thirty (30) days after publication of this document in the Federal Register.

Section II of this document explains the criteria for deleting sites from the NPL. Section III discusses procedures that EPA is using for this action. Section IV discusses the Electro-Coatings, Inc. Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), the EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, the EPA conducts five-year reviews to ensure the continued protectiveness of remedial actions where hazardous substances, pollutants, or contaminants remain at a site above levels that allow for unlimited use and unrestricted exposure. The EPA conducts such five-year reviews even if a site is deleted from the NPL. The EPA may initiate further action to ensure continued protectiveness at a deleted site if new information becomes available that indicates it is appropriate. Whenever there is a significant release from a site deleted from the NPL, the deleted site may be restored to the NPL without application of the hazard ranking system.

III. Deletion Procedures

The following procedures apply to the deletion of the Site:

(1) The EPA consulted with the State before developing this Notice of Intent for Deletion.

(2) The EPA has provided the state thirty working days for review of this notice prior to publication of it today.

(3) In accordance with the criteria discussed above, the EPA in consultation with the state, has determined that no further response is appropriate.

(4) The State of Iowa, through the Iowa Department of Natural Resources, has concurred with the deletion of the Electro-Coatings, Inc. Superfund Site from the NPL.

(5) Concurrently, with the publication of this Notice of Intent for Deletion in the Federal Register, a notice is being published in The Gazette, a major local newspaper in Cedar Rapids, Iowa. The newspaper announces the thirty-day public comment period concerning the Notice of Intent to Delete the Site from the NPL.

(6) The EPA placed copies of documents supporting the proposed deletion in the deletion docket and made these items available for public inspection and copying at the Site information repositories identified above.

If comments are received within the thirty-day comment period on this document, the EPA will evaluate and respond accordingly to the comments before making a final decision to delete the Electro-Coatings Site. If necessary, the EPA will prepare a Responsiveness Summary to address any significant public comments received. After the public comment period, if the EPA determines, in consultation with the State, it is still appropriate to delete the Electro-Coatings Site, the Regional Administrator will publish a final Notice of Deletion in the Federal Register. Public notices, public submissions and copies of the Responsiveness Summary, if prepared, will be made available to interested parties and included in the site information listed above.

Deletion of a site from the NPL does not itself create, alter, or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Intended Site Deletion

The following information provides the EPA's rationale for deleting the Electro-Coatings, Inc. Superfund Site from the NPL:

Site Background and History

Site Location

The Electro-Coatings, Inc. Site is located at 911 Shaver Road, along the north shoreline of Cedar Lake in the City of Cedar Rapids in Linn County, Iowa. The Site occupies approximately 1.5 acres. Cedar Lake is 150 acres in size and is privately owned by a utility company. A recreational trail is located along Cedar Lake and adjacent to the Site. The Cedar River is located about 0.5 miles to the west of the Site. The immediate area surrounding the Electro-Coatings Site is zoned as industrial. Industrial uses in the vicinity have included rubber manufacturing, scrap metal operations, paper manufacturing, cereal processing, grain alcohol production, and operation of an electric utility. The nearest residential area is approximately 0.25 miles to the east of the Site. Interstate Highway 380 separates the residential area from the Site. The Cedar Rapids Water Department has wells located to the west and north of the Site. The closest city wells are about 2,000 feet to the west of the Site.

Historic Activities

Electro-Coatings, Inc. (Electro-Coatings) has operated a facility that performs chromium, cadmium, nickel and zinc plating since 1947.

Groundwater flow at the Site is generally to the west-southwest towards the Cedar River. Groundwater flow in the alluvial deposits is towards the west-southwest, while groundwater flow in the bedrock is towards the southwest. The water level in Cedar Lake is higher than the water levels in all of the alluvial wells except monitoring well (MW) -8, which is located approximately 450 feet to the north of the lake (Remedial Investigation Report, Shive-Hattery 1992). These water levels suggest that the sandy to silty aquifer is not discharging into the lake. A small dam located on the northwest corner of Cedar Lake partially controls the lake level.

In March of 1976, a yellow tinge was noted in the cooling water being discharged to Cedar Lake from the Hawkeye Rubber Manufacturing Company (Hawkeye Rubber), which was located immediately to the west of the Site. This water was found to contain a high concentration of chromium coming from the Hawkeye Rubber production well (PW) -1. The source of chromium was tracked to a leaking concrete tank containing chromic acid at the Electro-Coatings facility. The chromium contamination of groundwater from Electro-Coatings was predominantly in the hexavalent form.

Shortly after the discovery of the chromium release, Electro-Coatings took actions to prevent further releases in response to requirements by the State of Iowa. Electro-Coatings replaced the leaky tank and injected ferrous sulfate and sulfuric acid into the groundwater in an attempt to reduce hexavalent chromium to the less soluble trivalent chromium. Electro-Coatings also implemented a program to upgrade leak prevention facilities throughout their plant and, under order from the State, installed monitoring wells and conducted groundwater monitoring. In addition, Hawkeye Rubber moved its cooling-water discharge from Cedar Lake to the Cedar Rapids sanitary sewer.

National Priorities List (NPL) Designation

On June 24, 1988, the Site was proposed to the NPL (53 FR 23978) and on October 4,1989, the Site was placed on the NPL (54 FR 41015) due to concerns that chromium contamination had the potential to affect the municipal water-supply wells of the City of Cedar Rapids, the closest of which is about 2,000 feet to the west of the Site. No impacts to the city wells from the Site, however, have ever been found. The CERCLIS ID is IAD005279039. The Iowa Department of Natural Resources (IDNR) has served as the lead oversight agency for the CERCLA remedial actions.

Remedial Investigation and Feasibility Study (RI/FS)

In 1991, remedial investigations by Electro-Coatings revealed volatile organic compound (VOC) contamination in groundwater that appeared to be from an off-site source. In October of 1992, the IDNR completed a supplemental investigation of the VOC contamination and concluded that Hawkeye Rubber was the primary source of VOCs. The VOC contamination was attributed to Hawkeye Rubber's vapor degreasing operation which utilized tetrachloroethylene, also known as perchloroethylene (PCE). During the 1991 remedial investigation (RI), and the subsequent 1992 supplemental investigation, it was concluded that the primary source of VOC contamination was attributed to the adjacent Hawkeye Rubber, which used PCE for vapor degreasing (TCE and cis-1,2-DCE are known breakdown products of PCE under certain geochemical and microbiological conditions). Hawkeye Rubber discontinued use of PCE for degreasing upon its discovery as a groundwater contaminant in 1992. Also, soil sampling during the RI revealed significant VOC contamination in the vicinity of Hawkeye Rubber. Only very low concentrations of VOCs were identified in soils adjacent to the Electro-Coatings facility. Electro-Coatings was determined to be a much smaller source of VOC contamination from previous use of trichloroethylene (TCE) and 1,1,1-trichloroethane (1,1,1-TCA).

In the spring of 1992, Electro-Coatings discovered soil contamination as a chromium dipping tank was being taken out of service. Approximately seventy cubic yards of soil and two-and one-half cubic yards of concrete were removed and disposed of at an off-site hazardous waste facility.

A Baseline Risk Assessment (BLRA) conducted by the IDNR in 1993 identified potentially unacceptable short- and long-term risks to site workers from the use of water from PW-1 for drinking and showering due to hexavalent chromium. Very low levels of chromium (less than 10 percent of the Safe Drinking Water Act Maximum Contaminant Levels(MCLs) were detected in some municipal water-supply wells. It is not known whether these low-level detections were attributed to the Electro-Coatings Site. Although the IDNR initially expressed concern that chromium contamination had the potential to affect municipal water-supply wells, the closest being approximately 2,000 feet west of the Site, the BLRA found no unacceptable risks based on the scenario used. The BLRA scenario found that if all groundwater contamination from the Site was drawn into one city well, the resulting contaminant levels in that well—representing only about 4 percent of the total water supply—would not exceed the Maximum Contaminant Levels (MCLs).

Record of Decision/Selected Remedy

The Record of Decision (ROD) for the Electro-Coatings Superfund Site was signed on September 29, 1994. The ROD addressed potential threats from use of water from the Hawkeye Rubber production well and potential off-site migration of contaminants. The ROD included only one operable unit which addressed groundwater contamination. The remedy selected in the ROD was monitoring with a contingency for groundwater pump and discharge to the publicly-owned treatment works (POTW). Major Components of the selected remedy included:

1. A contingency action if PW-1 ceases pumping or is found to not prevent off-site migration of contaminants. (Note: The remedy contains no requirements for continued operation of PW-1.)

2. If water quality monitoring reveals off-site migration of contaminants above drinking water standards, contingency actions will be required, which would involve installation of a new recovery well or wells to provide adequate containment of groundwater contamination. Treatment of the contaminated groundwater to reduce hexavalent chromium to trivalent chromium by chemical addition would be provided, if necessary, prior to discharge to the sanitary sewer under a pretreatment agreement with the POTW.

3. Testing to determine the effectiveness of PW-1 for containment of groundwater contamination from Electro-Coatings.

4. An evaluation of the adequacy of the existing monitoring well network to identify potential offsite migration of contaminants, other than to PW-1. Additional monitoring wells will be installed if the monitoring well network is found to be inadequate.

5. Develop and implement a monitoring plan to include monitoring procedures, locations of monitoring wells, frequency of sampling, sampling parameters, criteria for termination, and provisions for modification of the plan.

The response action selected in the ROD addressed all principal threats posed by the Site and the potential for direct ingestion of water containing contaminants above health-based levels. The objectives of the response action were to contain the contaminated groundwater and to ensure that groundwater not meeting health-based criteria was not ingested. The remedy prescribed in the ROD addressed this through groundwater monitoring, with a contingency for groundwater pump and discharge to the POTW. The remedy also acknowledged the contribution of PW-1 in providing hydraulic containment and preventing further migration of contaminated groundwater.

In October of 1999, Electro-Coatings and Shaver Road Investments, owner of the property, entered into a consent order with the State for implementation of the ROD. In February 2000, Hawkeye Rubber entered into a similar agreement with the State, and in 2001, Alliant Energy Company assumed Hawkeye Rubber's responsibilities after purchasing the property from Hawkeye Rubber. A joint effort by Electro-Coatings and Hawkeye Rubber, involving continued pumping from PW-1 and groundwater monitoring, was initiated in the spring of 2000.

Operation of the Hawkeye Rubber production well PW-1 continued until August 2006, except for a few months in 2003 due to a fire. Pumping to address the Hawkeye Rubber contamination was reinstated in July of 2008 and terminated again in September of 2009. There have been no detections in water from PW-1 of contaminants associated with the Site since September 2003. The last contaminant detected above an MCL in a Site monitoring well was in October 2005, and that contaminant was associated with Hawkeye Rubber, not Electro-Coatings. As a result of these findings, all active remedial measures ceased with the discontinuation of pumping from PW-1 in August 2006.

Starting in 2007, operation and maintenance activities were limited to semi-annual sampling of on-site monitoring wells MW-7 and MW-9 and this monitoring continued until November 2009 when both wells achieved the State consent order requirements of three consecutive semi-annual sampling events with no exceedance of MCLs.

Cleanup Levels

PCE, TCE, 1,1-DCE, cis-1,2-DCE, Cadmium, and Nickel

For the contaminantes listed above, the consent order implementing the remedial measures prescribed in the ROD stated that its requirements would be satisfied when there were no exceedances of the MCLs in at least three consecutive semi-annual sampling events and, if necessary, an appropriate institutional control is in place. All monitoring and production wells had achieved this goal by 2008 except MW-5 and MW-9, which both showed exceedances of TCE and cis-1,2-DCE within the last three sampling events. IDNR determined, however, that this contamination was from the neighboring Hawkeye Rubber site, as indicated below, which is being addressed under a separate action and not the Electro-Coatings, Inc. Site CERCLA response. Therefore, IDNR determined that all monitoring and production wells at the Site had satisfied the MCL requirements in November 2009 (IDNR, 2012). All active remedial measures ceased with the discontinuation of pumping from PW-1 in August 2006.

Chromium Contamination in Groundwater Analysis

The RI noted that hexavalent chromium was used at the Electro-Coatings plant, which had a leaking concrete tank determined to be the source of groundwater contamination. However, groundwater monitoring data conducted at the Site from 2000 through 2009 demonstrates that all wells have reached the ROD cleanup level of 100 ug/L, which was selected for total chromium, based on the Federal MCL. As a current drinking water aquifer and in light of new hexavalent chromium toxicity, the EPA evaluated site specific information to determine that groundwater is protective for current and future drinking water purposes. Below is a summary of this analysis.

Most wells were sampled until the pumping well operation ceased in 2006, with the exception of one downgradient well (MW-1) and two wells immediately downgradient of the source area (MW-7 and MW-9), which were sampled beyond 2006. PW-1 as well as MW-2, MW-3, MW-4, MW-5, MW-5D, and MW-10D, had multiple samples collected in FY 2006, with all wells showing total chromium being below the MCL. To provide additional data and a more conservative analysis, a duplicate sample was collected from these wells and results showed that total chromium is at or below 20 ug/L for these locations. For the remaining wells, downgradient well MW-1 was sampled once more in 2007 showing a concentration of total chromium less than 30 ug/L. This data, when compared to previous sampling results, showed that the groundwater continued to attenuate and meet the MCLs after the active treatment was terminated. The two remaining source wells, MW-7 and MW-9, upgradient of the pumping well, required sampling until 2009 to demonstrate compliance with MCLs. For MW-7, quarterly samples collected between 2008 and 2009 showed concentrations ranging from less than 20 ug/L to 100 ug/L, with the last two sampling events being below 20 ug/L, thus demonstrating that the cleanup level had been met. For MW-9, the last two years of sampling showed a decreasing trend, with the last sample collected being less than 20 ug/L.

In summary, the groundwater sample results for all wells sampled showed final total chromium concentrations less than 100 ug/L, and in most cases concentrations less than 20 ug/L or 10 ug/L. The residual levels of total chromium concentrations, specifically the data results from the duplicate samples and the recent source area well analysis conducted at Hawkeye Rubber in 2018 provide the EPA assurance that the impacted groundwater is suitable for drinking water and is protective of human health and the environment for total chromium and hexavalent chromium.

Five Year Reviews

Per EPA policy, if a remedial action is selected that does not result in hazardous substances, pollutants, or contaminants remaining at the site above levels that allow for unlimited use and unrestricted exposure, but will take more than five years to complete, the lead agency shall review such action no less often than every five years after the completion of construction. The EPA Region 7 has conducted the third and most recent FYR of the remedial actions implemented at the Electro-Coatings Site from June 2015 through September 2016. The triggering action for this review was the signature date of the previous FYR Report.

The third FYR was completed on September 22, 2016 and found the remedy to be protective of human health and the environment in the short-term. There was one issue and recommendation, to collect and evaluate additional surface water samples from Cedar Lake to determine if potential ecological threats exist. The EPA Region 7 subsequently collected and analyzed surface water sample for hexavalent chromium. All sample results were below ambient water quality criteria. The EPA subsequently performed a screening level environmental risk assessment and determined that there was no risk to ecological receptors. The one issue and recommendation from the 2016 FYR was resolved. The EPA is completing a memorandum to the file documenting these results and other data associated with the Site to justify discontinuing five-year reviews, as the site has reached UU/UE.

Community Involvement

Throughout the CERCLA process from development of the Consent Order to completion of remedial activities, all phases of the remediation have had input from Federal and State regulators and members of the public. Over the life of the project, there have been numerous opportunities for public input to express their opinions.

Public involvement has been sought by IDNR, and EPA on many remediation and operation documents, including Proposed Plans, Decision Documents, and EPA Five-Year Reviews. The last public notice was placed in the Cedar Rapids' newspaper, The Gazette, on July 19, 2015, notifying the public of the start of the third Five-Year Review (FYR) process. The completed FYR report was made available during the public comment period at the EPA Region 7 Records Center, located at 11201 Renner Boulevard, Lenexa, Kansas 66219, and the Cedar Rapids Downtown Public Library, located at 450 Fifth Avenue SE, Cedar Rapids, Iowa 52401.

Determination That the Criteria for Deletion Have Been Met

In accordance with 40 CFR 300.425(e), the EPA Region 7 determined that the response at the Site (the subject of this deletion) meets the substantive criteria for deletion from the NPL. All responsible parties or other persons have implemented all appropriate response actions required, and no further response action by responsible parties is appropriate. The implemented remedies have achieved the degree of cleanup specified in the remedy decisions for all pathways of exposure. All selected remedial action objectives and associated cleanup levels are consistent with agency policy and guidance. No further Superfund response is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: July 3, 2019
James Gulliford,
Regional Administrator, Region 7.

[FR Doc. 2019-14759 Filed 7-10-19; 8:45 am]

BILLING CODE 6560-50-P